FEDERAL RETIREMENT THRIFT INVESTMENT BOARD

Notice of Board Meeting

TIME AND DATE: November 20, 2023 at 1:00 p.m.

PLACE: 77 K Street NE, Washington, DC 20002.

STATUS: Closed to the public.

CONTACT PERSON FOR MORE INFORMATION: Kimberly Weaver, Director, Office of External Affairs, (202) 942-1640.

SUPPLEMENTARY INFORMATION:

Board Meeting Agenda

Closed Session

1. Information covered under 5 U.S.C. 552b(c)(6).

Authority: 5 U.S.C. 552b(e)(1).

Dated: November 15, 2023.
Dharmesh Vashee,
General Counsel, Federal Retirement Thrift Investment Board.

[FR Doc. 2023-25640 Filed 11-20-23; 8:45 am]

BILLING CODE P